DEPARTMENT OF AGRICULTURE

Submission for OMB Review; Comment Request

March 4, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 8, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Supplemental Nutrition Assistance Program Repayment Demand and Program Disqualification.

OMB Control Number: 0584-0492.

Summary of Collection: Section 13(b) of the Food and Nutrition Act of 2008, as amended (7 U.S.C. 2202(b)), and Supplemental Nutrition Assistance Program (SNAP) regulations at 7 CFR 273.18(a)(2) require State agencies to initiate collection action. State agencies must provide an affected household with written notification informing the over-issued household of the claim and demanding repayment.

Need and Use of the Information: State agency personnel will collect the information from individuals collecting SNAP benefits. The State agencies must maintain all records associated with this collection for a period of three years so that FNS can review documentation during compliance reviews and other audits. Without the information, FNS would not be able to correct accidental or fraudulent overpayment errors in the SNAP Program.

Description of Respondents: 53 State, Local, or Tribal Government (SLT); 559,785 Individuals/Households (I/H).

Number of Respondents: 559,838.

Frequency of Responses: Reporting, Recordkeeping; On occasion.

Total Burden Hours: 135,526.

Ruth Brown,
Departmental Information Collection Clearance Officer.

[FR Doc. 2021-04853 Filed 3-8-21; 8:45 am]

BILLING CODE 3410-30-P